DEPARTMENT OF THE INTERIOR

National Park Service

Plan of Operations for Reclamation of the Rafferty Fee Lease—Well No. 1 Site, Big Thicket National Preserve, Texas

AGENCY: National Park Service, Department of the Interior.

ACTION: Notice of Availability of a Plan of Operations for reclamation of the Rafferty Fee Lease—Well No. 1 site at Big Thicket National Preserve.

SUMMARY: Notice is hereby given, in accordance with Section 9.52(b) of Title 36 of the Code of Federal Regulations, Part 9, Subpart B, of a Plan of Operations submitted by Buford Curtis, Inc., for reclamation of the Rafferty Fee Lease—Well No. 1 site, Hardin County, Texas.

DATES: The above document is available for pubic review and comment through July 11, 2008.

ADDRESSES: The Plan of Operations is available for public review and comment online at http://parkplanning.nps.gov/bith, and in the office of the Superintendent, Todd Brindle, Big Thicket National Preserve, 6044 FM 420, Kountze, Texas 77625, telephone: 409-951-6802.

FOR FURTHER INFORMATION CONTACT: Mr. Haigler “Dusty” Pate, Biologist, Oil and Gas Program Manager, Big Thicket National Preserve, 6044 FM 420, Kountze, Texas 77625, telephone: 409-951-6822, e-mail at Haigler_Pate@nps.gov.

SUPPLEMENTARY INFORMATION: If you wish to comment, you may submit your comments by any one of several methods. You may mail comments to the Superintendent at the address above. You may also comment via the Internet at http://parkplanning.nps.gov/bith. If you do not receive a confirmation from the system that we have received your Internet message, contact us directly using the information above. Finally, you may hand-deliver comments to the address above. Before including your address, phone number, e-mail address, or other personal identifying information in your comment, you should be aware that your entire comment including your personal identifying information may be made publicly available at any time. While you can ask us in your comment to withhold your personal identifying information from public review, we cannot guarantee that we will be able to do so.

Dated: May 2, 2008
Todd W. Brindle,
Superintendent, Big Thicket National Preserve.

[FR Doc. E8-12964 Filed 6-10-08; 8:45 am]

BILLING CODE 4312-CB-M